DEPARTMENT OF ENERGY

Federal Energy Regulatory Commission

Combined Notice of Filings

Take notice that the Commission has received the following Natural Gas Pipeline Rate and Refund Report filings:

Filings Instituting Proceedings

Docket Numbers: RP24-934-000.

Applicants: Northern Natural Gas Company.

Description: 4(d) Rate Filing: 20240731 Negotiated Rate to be effective 8/1/2024.

Filed Date: 7/31/24.

Accession Number: 20240731-5121.

Comment Date: 5 p.m. ET 8/12/24.

Docket Numbers: RP24-935-000.

Applicants: Ruby Pipeline, L.L.C.

Description: 4(d) Rate Filing: RP 2024-07-31 FL&U and EPC Rate Adjustment to be effective 9/1/2024.

Filed Date: 7/31/24.

Accession Number: 20240731-5125.

Comment Date: 5 p.m. ET 8/12/24.

Docket Numbers: RP24-936-000.

Applicants: El Paso Natural Gas Company, L.L.C.

Description: 4(d) Rate Filing: Negotiated Rate Agreement Update (Conoco Aug 2024) to be effective 8/1/2024.

Filed Date: 7/31/24.

Accession Number: 20240731-5153.

Comment Date: 5 p.m. ET 8/12/24.

Docket Numbers: RP24-937-000.

Applicants: Sabine Pipe Line LLC.

Description: 4(d) Rate Filing: Normal filing July 2024—7.26-4.9 to be effective 8/1/2024.

Filed Date: 7/31/24.

Accession Number: 20240731-5167.

Comment Date: 5 p.m. ET 8/12/24.

Docket Numbers: RP24-938-000.

Applicants: Sierrita Gas Pipeline LLC.

Description: 4(d) Rate Filing: 2024 Jul Quarterly FL&U Filing to be effective 9/1/2024.

Filed Date: 7/31/24.

Accession Number: 20240731-5202.

Comment Date: 5 p.m. ET 8/12/24.

Docket Numbers: RP24-939-000.

Applicants: El Paso Natural Gas Company, L.L.C.

Description: 4(d) Rate Filing: Negotiated Rate Agreement Update (SoCal Aug-Oct 2024) to be effective 8/1/2024.

Filed Date: 7/31/24.

Accession Number: 20240731-5220.

Comment Date: 5 p.m. ET 8/12/24.

Docket Numbers: RP24-940-000.

Applicants: Natural Gas Pipeline Company of America LLC.

Description: 4(d) Rate Filing: Limited Section 4 to Adjust Fuel Gas and L&U Retention Factors 2024 to be effective 9/1/2024.

Filed Date: 8/1/24.

Accession Number: 20240801-5001.

Comment Date: 5 p.m. ET 8/13/24.

Docket Numbers: RP24-941-000.

Applicants: Mountain Valley Pipeline, LLC.

Description: 4(d) Rate Filing: Negotiated Rate Capacity Release Agreements—8/1/2024 to be effective 8/1/2024.

Filed Date: 8/1/24.

Accession Number: 20240801-5014.

Comment Date: 5 p.m. ET 8/13/24.

Docket Numbers: RP24-942-000.

Applicants: Algonquin Gas Transmission, LLC.

Description: 4(d) Rate Filing: Negotiated Rates—Various Releases eff 8-1-24 to be effective 8/1/2024.

Filed Date: 8/1/24.

Accession Number: 20240801-5031.

Comment Date: 5 p.m. ET 8/13/24.

Docket Numbers: RP24-943-000.

Applicants: Algonquin Gas Transmission, LLC.

Description: 4(d) Rate Filing: AGT Name Change Filing August 2024 to be effective 9/1/2024.

Filed Date: 8/1/24.

Accession Number: 20240801-5036.

Comment Date: 5 p.m. ET 8/13/24.

Docket Numbers: RP24-944-000.

Applicants: ANR Pipeline Company.

Description: 4(d) Rate Filing: NR NC and Misc Housekeeping to be effective 9/1/2024.

Filed Date: 8/1/24.

Accession Number: 20240801-5039.

Comment Date: 5 p.m. ET 8/13/24.

Docket Numbers: RP24-945-000.

Applicants: NEXUS Gas Transmission, LLC.

Description: 4(d) Rate Filing: Negotiated Rates—Various Releases eff 8-1-2024 and 8-31-2024 to be effective 8/1/2024.

Filed Date: 8/1/24.

Accession Number: 20240801-5053.

Comment Date: 5 p.m. ET 8/13/24.

Docket Numbers: RP24-946-000.

Applicants: Maritimes & Northeast Pipeline, L.L.C.

Description: 4(d) Rate Filing: Negotiated Rates—Various Releases eff 8-1-24 to be effective 8/1/2024.

Filed Date: 8/1/24.

Accession Number: 20240801-5054.

Comment Date: 5 p.m. ET 8/13/24.

Docket Numbers: RP24-947-000.

Applicants: Rover Pipeline LLC.

Description: 4(d) Rate Filing: Summary of Negotiated Rate Capacity Release Agreements 8-1-2024 to be effective 8/1/2024.

Filed Date: 8/1/24.

Accession Number: 20240801-5102.

Comment Date: 5 p.m. ET 8/13/24.

Docket Numbers: RP24-948-000.

Applicants: UGI Storage Company.

Description: Annual Report of Operational Sales and Purchases of UGI Storage Company.

Filed Date: 8/1/24.

Accession Number: 20240801-5140.

Comment Date: 5 p.m. ET 8/13/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP22-1222-005.

Applicants: Natural Gas Pipeline Company of America LLC.

Description: Compliance filing: NGPL Fuel Transparency Report Informational Filing 2024 to be effective N/A.

Filed Date: 8/1/24.

Accession Number: 20240801-5000.

Comment Date: 5 p.m. ET 8/13/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 1, 2024.
Debbie-Anne A. Reese,
Acting Secretary.

[FR Doc. 2024-17496 Filed 8-7-24; 8:45 am]

BILLING CODE 6717-01-P